DEPARTMENT OF THE INTERIOR

Bureau of Land Management

[AK960-1410-HY-P]

Alaska Native Claims Acreage Allocation

AGENCY: Bureau of Land Management, DOI.

ACTION: Notice of decision allocating additional acreage to regional corporations.

SUMMARY: As required by 43 CFR 2650.7(d), notice is hereby given that an appealable decision allocating additional acreage to Alaskan Native regional corporations will be issued to:

Ahtna, Inc., The Aleut Corporation, Bering Straits Native Corporation, Bristol Bay Native Corporation, Calista Corporation, Chugach Alaska Corporation, Cook Inlet Region, Inc., Doyon, Limited, Koniag, Inc., NANA Regional Corporation, Inc., and Sealaska Corporation.

Further information and a table showing the acreage computation are contained in the Supplementary Information portion of this notice. If there is an appeal that affects the allocation to any other region, then all other allocations are subject to administrative correction.

DATES: The time limits for filing an appeal are:

1. Any party claiming a property interest which is adversely affected by the decision shall have until January 30, 2006, to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7599.

FOR FURTHER INFORMATION CONTACT: Linda Resseguie, by phone at 907-271-5422, or by e-mail at Linda_Resseguie@ak.blm.gov. Persons who use a telecommunication device (TTD) may call the Federal Information Relay Service (FIRS) on 1-800-877-8330, 24 hours a day, seven days a week, to contact Ms. Resseguie.

SUPPLEMENTARY INFORMATION: Section 205 of the Alaska Land Transfer Acceleration Act of December 10, 2004, Public Law 108-452, 118 Stat. 3585 (hereafter Sec. 205), amended Sec. 14(h)(8) of the Alaska Native Claims Settlement Act (ANCSA), 43 U.S.C. 1613(h)(8), by directing the Secretary of the Interior to allocate to the regional corporations an additional 200,000 acres of the 2 million acre pool established under Sec. 14(h) of ANCSA.

Each region's respective share of the 200,000 acres has been calculated using the final Sec. 14(h) percentiles published in the Federal Register, Vol. 42. No. 22, pages 6419 to 6432, February 2, 1977, and Federal Register, Vol. 43, No. 221, page 53062, November 15, 1978, subject to the specific limitations included in Sec. 205. The table below sets out the computations required by Sec. 205. Column 2 lists the final percentiles published in the Federal Register; column 3 shows each region's respective share of the 200,000 acres; and column 4 shows each region's revised total allocation under section 14(h)(8).

Regional corporation | Percentage share | Share of 200,000-acre allocation | Total acres allocated under section 14(h)(8)
Ahtna | 1.41538 | 2,830.76 | 22,957.54
Aleut | 4.36431 | 8,728.62 | 70,789.37
Arctic Slope | 5.07850 | 10,157.00 | 82,373.57
Bering Straits | 8.98443 | 17,968.86 | 145,727.99
Bristol Bay | 7.17430 | 14,348.60 | 116,367.57
Calista | 17.45725 | 34,914.50 | 283,157.64
Chugach | 2.73467 | 5,469.34 | 44,356.51
Cook Inlet | 8.15078 | 16,301.56 | *
Doyon | 12.00348 | 24,006.96 | 194,697.16
Koniag | 4.40716 | 8,814.32 | *
NANA | 6.38041 | 12,760.82 | 103,490.63
Sealaska | 21.84883 | 43,697.66 | 354,389.33
*Settled by legislation.

Ramona Chinn,
Deputy State Director, Division of Conveyance Management.

[FR Doc. E5-8027 Filed 12-28-05; 8:45 am]

BILLING CODE 4310-$$-P